Title 3—

The President

Proclamation 7568 of May 31, 2002

Black Music Month, 2002

By the President of the United States of America

A Proclamation

America's diverse and extraordinary musical heritage reflects the remarkable cultural and artistic history of our Nation. From gospel, blues, and jazz to rock and roll, rap, and hip-hop, our Nation's musical landscape offers an astounding array of uniquely American styles. During Black Music Month, we celebrate a critically important part of this heritage by highlighting the enduring legacy of African American musicians, singers, and composers, and urging every American to appreciate and enjoy the fabulous achievements of this highly creative community.

Early forms of black American music developed out of the work song, which had its roots in African tribal chants. Through this music, slaves shared stories, preserved history, and established a sense of community. As many African slaves in early America became Christians, they adapted their music into the songs and life of the church. These spirituals eventually evolved into a genre that remains vibrant and very meaningful today—gospel music. This great musical tradition developed under the leadership of people like Thomas Dorsey, who was known as the Father of Gospel Music. He composed many great gospel songs that have become standards, and he established the tradition of the gospel music concert.

Following emancipation, African Americans enjoyed unprecedented opportunities but also faced many new and frequently oppressive challenges. Frustrations from these struggles for freedom and equality found expression in a style of music that came to be known as the blues. Innovative musical geniuses like W.C. Handy, Robert Johnson, the Reverend Gary Davis, and Mamie Smith were among the legendary pioneers of blues music.

As blacks migrated throughout the United States in the early 1900s, they tapped into their collective experience and creativity to develop new expressions of music. New Orleans became the center for a particularly American form of music—jazz. This novel genre combined unique rhythms and melodies with the sounds of stringed, brass, and woodwind instruments. Jazz captured the interest of 20th century America, making household names of great African American artists like Louis Armstrong, Charlie Parker, Ella Fitzgerald, and Miles Davis. The unparalleled brilliance of these and other great jazz musicians had an extraordinary effect upon the American musical tradition, while bringing great pleasure to millions of fans.

In the 1940s, rhythm and blues emerged, synthesizing elements from gospel, blues, and jazz; and from these styles came the birth of rock and roll. A fabulous array of artists helped to pioneer this modern musical transformation, including Chuck Berry, Ray Charles, Marvin Gaye, Aretha Franklin, and Stevie Wonder.

As we reflect on the rich and distinctive history of so many talented artists, we celebrate the incredible contributions that black musicians have made to the history of American music and their influence on countless forms of music around the world.

NOW, THEREFORE, I, GEORGE W. BUSH, President of the United States of America, by virtue of the authority vested in me by the Constitution and laws of the United States, do hereby proclaim June 2002 as Black Music Month. I call on Americans of all backgrounds to learn more about the rich heritage of black music and how it has shaped our culture and our way of life, and urge them to take the opportunity to enjoy the great musical experiences available through the contributions of African American music.

IN WITNESS WHEREOF, I have hereunto set my hand this thirty-first day of May, in the year of our Lord two thousand two, and of the Independence of the United States of America the two hundred and twenty-sixth.

B

[FR Doc. 02-14239

Filed 6-4-02; 8:45 am]

Billing code 3195-01-P